DEPARTMENT OF THE INTERIOR

National Park Service

General Management Plan; Middle and South Forks Kings River Wild and Scenic River Comprehensive Management Plan; North Fork Kern River Wild and Scenic River Comprehensive Management Plan; Sequoia and Kings Canyon National Parks Tulare and Fresno Counties, California; Notice of Intent to Prepare an Environmental Impact Statement

SUMMARY: The National Park Service (NPS) will prepare Comprehensive Management Plans for the Middle and South Forks Kings River and the North Fork Kern River, which in 1987 were designated as components of the National Wild and Scenic Rivers System. The purpose of these Comprehensive Management Plans is to provide direction and overall guidance on managing these wild and scenic rivers within the boundaries of Sequoia and Kings Canyon National Parks. These plans will be prepared concurrently with the park's ongoing General Management Plan (GMP), in accord with 40 CFR 1501.7 and 40 CFR 1508.22 of the regulations of the President's Council on Environmental Quality for the National Environmental Policy Act of 1969 (Pub.L. 91-190). This notice supersedes a previous Notice of Intent which was published in the October 28, 1997 Federal Register (V62,N208,PP55827-28). The forthcoming Environmental Impact Statement (EIS) for the GMP will be expanded to include Comprehensive Management Plans for these river segments.

Background

Congress directed the NPS to revise the GMP for these parks to recognize these designations. The EIS will include an evaluation of the potential impacts, if any, and appropriate mitigation strategies, associated with implementing Comprehensive Management Plans (CMP) for wild and scenic river management. The CMPs will establish boundaries and identify appropriate classification of segments, and the GMP and CMPs will ensure that no development or use of park lands will be undertaken that is inconsistent with the designation of these river segments.

Comments

Comments concerning the scope of the CMPs, and any new information regarding the GMP, are encouraged at this time. Scoping comments regarding the GMP received previously are recorded in the administrative record and will also continue to be addressed (a synopsis of issues and concerns received overall will be available). Written comments concerning the CMPs or/and GMP should be sent to: Superintendent, Sequoia and Kings Canyon National Parks, 47050 Generals Highway, Three Rivers, CA 93271-9651. All written responses must be postmarked not later than March 29, 2002. For additional info, or requests to be added to the project mailing list, contact Dr. David Graber, GMP Coordinator, at the above address or via telephone at (559) 565-3173.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision

As a delegated EIS, the official responsible for the final decision is the Regional Director, Pacific West Region; subsequently the official responsible for implementation is the Superintendent, Sequoia and Kings Canyon National Parks. At this time it is anticipated that the Draft EIS for the GMP/CMPs will be available for public review in the fall of 2002. Distribution of the document will be duly noted in the Federal Register and announced via local and regional press. Thereafter the Final EIS would be completed in the spring of 2003.

Dated: January 16, 2002.
Cynthia Ip,
Acting Regional Director, Pacific West Region.

[FR Doc. 02-7253 Filed 3-25-02; 8:45 am]

BILLING CODE 4310-70-P